DEPARTMENT OF THE INTERIOR

Geological Survey

[GX23BA000AD0100; OMB Control Number 1028-0103]

Agency Information Collection Activities; Submission to the Office of Management and Budget for Review and Approval; USA National Phenology Network—The Nature's Notebook Plant and Animal Observing Program

AGENCY: U.S. Geological Survey, Department of the Interior.

ACTION: Notice of information collection; request for comment.

SUMMARY: In accordance with the Paperwork Reduction Act of 1995 (PRA), the U.S. Geological Survey (USGS) is proposing to extend an information collection.

DATES: Interested persons are invited to submit comments on or before December 26, 2023.

ADDRESSES: Send written comments on this information collection request (ICR) to the Office of Management and Budget's Desk Officer for the Department of the Interior by email at OIRA_Submission@omb.eop.gov; or via facsimile to (202) 395-5806. Please provide a copy of your comments to the USGS, Information Collections Clearance Officer, 12201 Sunrise Valley Drive MS 159, Reston, VA 20192; or by email to gs-info_collections@usgs.gov. Please reference OMB Control Number 1028-0103 Nature's Notebook in the subject line of your comments.

FOR FURTHER INFORMATION CONTACT: To request additional information about this ICR, contact Melanie J. Steinkamp by email at msteinkamp@usgs.gov or by telephone at 703-261-3128.You may also view the ICR at http://www.reginfo.gov/public/do/PRAMain.

SUPPLEMENTARY INFORMATION: In accordance with the PRA, (44 U.S.C. 3501 et seq.) and 5 CFR 1320.8(d)(1), all information collections require approval. We may not conduct or sponsor, nor are you required to respond to, a collection of information unless it displays a currently valid OMB control number.

A Federal Register notice with a 60-day public comment period soliciting comments on this collection of information was published on August 4, 2023 (88 FR 51851). No comments were received.

As part of our continuing effort to reduce paperwork and respondent burdens, we invite the public and other federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: The USA-National Phenology Network is a program sponsored by the USGS that uses standardized forms for tracking plant and animal activity as part of a project called Nature's Notebook. The Nature's Notebook forms are used to record phenology (e.g., the timing of the leafing or flowering of plants and the reproduction or migration of animals) as part of a nationwide effort to understand and predict how plants and animals respond to environmental variation and changes in weather and climate. Contemporary data collected through Nature's Notebook are quality-checked, described, and made publicly available; data are used to inform decision-making in a variety of contexts, including agriculture, drought monitoring, and wildfire risk assessment. Phenological information is also critical for the management of wildlife, invasive species, and agricultural pests, and for understanding and managing risks to human health and welfare, including allergies, asthma, and vector-borne diseases. Participants may contribute phenology information to Nature's Notebook through a browser-based web application or via mobile applications for iPhone and Android operating systems, meeting Government Paperwork Elimination Act (GPEA) and Privacy Act requirements. The web application interface consists of several components: User registration; a searchable list of 1,756 plant and animal species that can be observed; a “profile” for each species that contains information about the species including its description and the appropriate monitoring protocols; a series of interfaces for registering as an observer, registering an observation site, and registering plants and animals at an observation site; generating datasheets to take to the field, and a data entry page that mimics the datasheets.

Title of Collection: USA NATIONAL PHENOLOGY NETWORK—THE NATURE'S NOTEBOOK PLANT AND ANIMAL OBSERVING PROGRAM.

OMB Control Number: 1028-0103.

Form Number: None.

Type of Review: Extension of a currently approved collection.

Respondents/Affected Public: Members of the public registered with Nature's Notebook, State Cooperative Extension employees, and Tribal members.

Total Estimated Number of Annual Respondents: 6,598.

Total Estimated Number of Annual Responses: 4,102,388.

Estimated Completion Time per Response: Upon joining the program, each of the 6,598 respondents is expected to spend 13 minutes to register and read guidelines for an annual burden of 1,430 hours. New and existing respondents are expected to spend about two minutes on each observation and submission of a phenophase status record. Given a projection of 4,102,388 phenophase status responses each year, annual burden of observation and submission of records is 136,746 hours. Thus, the Total Estimated Annual Burden is 138,176 hours.

Respondent's Obligation: Voluntary.

Frequency of Collection: On occasion; depends on the seasonal activity of plants and animals.

Non-hour burden costs may be incurred for optional items such as clipboards, pencils, flags, markers, stakes, tags and/or popsicle sticks. We estimate that only 20% of users (i.e., 1,320) will incur these costs, at an estimated cost of $2.52 per user, for a Total Estimated Annual Non-hour Burden cost of $3,327.

An agency may not conduct or sponsor, nor is a person required to respond to, a collection of information unless it displays a currently valid OMB control number.

The authority for this action is the PRA of 1995.

Melanie J. Steinkamp,
Species Management Research Program Coordinator, Ecosystems Mission Area, U.S. Geological Survey.

[FR Doc. 2023-25915 Filed 11-22-23; 8:45 am]

BILLING CODE 4338-11-P